FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue, NW, Washington DC 20551-0001, not later than October 16, 2020.

A. Federal Reserve Bank of Chicago (Colette A. Fried, Assistant Vice President) 230 South LaSalle Street, Chicago, Illinois 60690-1414:

1. The Nathan & Shirley Rothner Family Trust II, Evanston, Illinois, Eric A. Rothner, Chicago, Illinois, trustee; and the Rachel Rothner Accumulation Trust II, the Melissa Rothner Accumulation Trust II, the William Rothner Accumulation Trust II, the Daniel Rothner Accumulation Trust II, the Adam Vales Accumulation Trust II, the Kimberly Vales Accumulation Trust II, and the Kathryn Vales Accumulation Trust II, all of Evanston, Illinois, Gale F. Rothner, Chicago, Illinois, and David M. Aronin, Skokie, Illinois, co-trustees; to join Eric A. Rothner and form the Rothner Family Control Group, a group acting in concert to retain 100 percent of the voting shares of Brickyard Bancorp, Inc., and thereby indirectly control Brickyard Bank, both of Lincolnwood, Illinois.

Board of Governors of the Federal Reserve System, September 28, 2020.
Yao-Chin Chao,
Assistant Secretary of the Board.

[FR Doc. 2020-21791 Filed 10-1-20; 8:45 am]

BILLING CODE P